DEPARTMENT OF DEFENSE

Department of the Army; Corps of Engineers

Intent To Prepare a Draft Environmental Impact Statement for Tres Rio del Norte, Pima County, AZ

AGENCY: Army Corps of Engineers, DoD.

ACTION: Notice of intent.

SUMMARY: The Los Angeles District intends to prepare an Environmental Impact Statement (EIS) to support the proposed study for Pima County. The Tres Rio del Norte study area is located in the upper Sonoran Desert in the Santa Cruz watershed. It includes portions of the Town Of Marana, City of Tucson, and Pima County jurisdictions, and includes upland areas around the vicinity of the Santa Cruz River between Prince Road and Moore Road. The study area will be refined during the course of the study to include appropriate areas of consideration in accordance with the general study objectives.

The proposed project involves restoration of riparian habitat along the stream courses in Pima County, providing flood protection to the City of Tucson, town of Marana and part of Pima County, also increased recreational opportunities consistent with ecosystem restoration.

ADDRESSES: Commander, U.S. Army Corps of Engineers, Attn: Joy Jaiswal, CESPL-PD-RL, Los Angeles District, Regional Planning Section, PO Box 532711, Los Angeles, CA 90053-2325

FOR FURTHER INFORMATION CONTACT: Ms. Joy Jaiswal, Environmental Manager, phone (213) 452-3871.

SUPPLEMENTARY INFORMATION:

1. Study Authority

This study would be conducted under two separate authorities provided by Congress. The first and most recent authority is provided by House Resolution 2425 (HR 2425), dated May 17, 1994. The second authority is given in Public Law 761, Seventy-fifth Congress, known as Section 6 of the Flood Control Act of 1938.

2. Proposed Action

Provide flood control, restoration of riparian habitat, and increase recreation facilities. The U.S. Army Corps of Engineers (Corps) intends to prepare a Draft EIS to assess the environmental effects associated with the proposed Tress Rio del Notre project. The Environmental Impact Statement will evaluate impacts of viable alternatives along with a No Action Alternative. Resource categories that will be analyzed in the EIS are: land use, physical environment, geology, biological agricultural, air quality, water quality, groundwater, recreational usage, esthetics, cultural resources, transportation/communications, hazardous waste, socioeconomic and safety. The public will have the opportunity to comment on this analysis before any action is taken to implement the proposed action.

3. Scoping Process

The Corps will conduct a scoping meeting prior to preparing the Environmental Impact Statement to aid in determining the significant environmental issues associated with the proposed action. The public, as well as Federal, State, and local agencies are encouraged to participate in the scoping process by submitting data, information, and comments identifying relevant environmental and socioeconomic issues to be addressed in the environmental analysis. Useful information includes other environmental studies, published and unpublished data, alternatives that should be addressed in the analysis, and potential mitigation measures associated with the proposed action.

A public scoping meeting will be held in conjunction with the local sponsor to discuss the project scope and invite public participation in developing alternatives for the project. Individuals and agencies may offer information or data relevant to the environmental socioeconomic impacts by attending the public scoping meeting, or by mailing the information to the above address.

4. Public Scoping Meeting

The scoping meeting is scheduled for October 30, 2001, at 6 PM, at Coyote Trails Elementary School, 8000 North Silver Bell Road, Marana, Arizona.

Luz D. Ortiz,
Army Federal Register Liaison Officer.

[FR Doc. 01-25771 Filed 12-12-01; 8:45 am]

BILLING CODE 3710-KF-M